DEPARTMENT OF JUSTICE

Antitrust Division

Notice Pursuant to the National Cooperative Research and Production Act of 1993—Joint Venture Under ATP Award No. 70NAB4H3055

Notice is hereby given that, on October 20, 2004, pursuant to section 6(a) of the National Cooperative Research and Production Act of 1993, 15 U.S.C. 4301 et seq. (“the Act”), the Joint Venture Under ATP Award No. 70NAB4H3055 has filed written notifications simultaneously with the Attorney General and the Federal Trade Commission disclosing (1) The identities of the parties to the venture and (2) the nature and objectives of the venture. The notifications were filed for the purpose of invoking the Act;s provisions limiting the recovery of antitrust plaintiffs to actual damages under specified circumstances.

Pursuant to section 6(b) of the Act, the identities of the parties to the venture are: The Dow Chemical Company, Midland, MI and Veeco Metrology, LLC, Santa Barbara, CA. The nature and objectives of the venture are to develop high speed atomic force microscope capabilities for quantitative nanomechanical measurements.

Dorothy B. Fountain,
Deputy Director of Operations, Antitrust Division.

[FR Doc. 04-26214 Filed 11-26-04; 8:45 am]

BILLING CODE 4410-11-M